DELAWARE RIVER BASIN COMMISSION

Notice of Commission Meeting and Public Hearing

Notice is hereby given that the Delaware River Basin Commission will hold an informal conference followed by a public hearing on Wednesday, July 26, 2000. The hearing will be part of the Commission's regular business meeting. Both the conference session and business meeting are open to the public and will be held at the Commission offices at 25 State Police Drive, West Trenton, New Jersey.

The conference among the Commissioners and staff will begin at 10:30 a.m. It will include a presentation by Delaware Water Coordinator Gerald Kauffman on an integrated resource plan to address water supply problems in New Castle County, Delaware. Summaries of the following four meetings also will be offered: June 26 meeting on the Estuary PCB Monitoring Plan; July 13 meeting of the Water Management Advisory Committee; and July 20 meetings of the Toxics Advisory Committee and Flow Management Technical Advisory Committee. A brief account of briefings on the Christina River TMDL also will be provided.

The subjects of the public hearing to be held during the 1:30 p.m. business meeting will include, in addition to the dockets listed below, a proposed Resolution concerning the control of certain toxic substances, including PCBs, in the Delaware Estuary.

The dockets scheduled for public hearing are as follows:

1. Village of Deposit D-99-64 CP. An application for approval of a ground water withdrawal project to supply up to 5.4 million gallons (mg)/30 days of water to the applicant's distribution system from new Well No. 5 in the West Branch Delaware River watershed, and to increase the existing withdrawal limit from all wells from 15 mg/30 days to 30 mg/30 days. The project is located in the Village of Deposit, Delaware County, New York.

2. Borough of Dublin D-2000-11 CP. An application for approval of an increase in ground water withdrawal allocation from 4.36 mg/30 days to 6.9 mg/30 days for the applicant's public water distribution system from existing Wells Nos. 1, 2, 3 and 5 in the mixed zone of the Lockatong and Brunswick Formations. The project is located in Dublin Borough, Bucks County in the Southeastern Pennsylvania Ground Water Protected Area.

3. Little Washington Treatment Company D-2000-24. An application to upgrade and expand the applicant's Willistown Woods (formerly Chesterdale) sewage treatment plant (STP) from 0.12 million gallons per day (mgd) advanced secondary treatment to 0.225 mgd tertiary treatment. The STP is located just south of State Route 3 in Willistown Township at its border with Westtown Township, both in Chester County, Pennsylvania, and will continue to serve portions of Willistown and Westtown Townships. Treated effluent will continue to discharge to a tributary of Hunters Run in the Ridley Creek watershed.

4. Dennis C. Christman D-2000-42. An application to construct a 0.08 mgd STP to replace failing on-lot septic systems at the applicant's Christman Lake development located off Christman Road (Township Route 771) in Windsor Township, Berks County, Pennsylvania. The proposed plant is designed to provide secondary treatment via the sequencing batch reactor process. Treated effluent will discharge to a marsh area that flows 120 feet directly to an unnamed tributary of Maiden Creek in the Schuylkill River watershed.

In addition to the public hearing, the Commission will address the following at its 1:30 p.m. business meeting: minutes of the June 16, 2000 business meeting; announcements; report on hydrologic conditions in the basin; and reports of the Executive Director and General Counsel.

Documents relating to the dockets and other items may be examined at the Commission's offices. Preliminary dockets are available in single copies upon request. Please contact Thomas L. Brand at (609) 883-9500 ext. 221 concerning docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs.

Dated: July 11, 2000.
Pamela M. Bush,
Commission Secretary.

[FR Doc. 00-18376 Filed 7-19-00; 8:45 am]

BILLING CODE 6360-01-P